OFFICE OF THE DIRECTOR OF NATIONAL INTELLIGENCE

Agency Information Collection Activities: Extension of Information Collection; Comment Request

AGENCY: Office of the Director of National Intelligence (ODNI).

ACTION: Notice and comment.

SUMMARY: In December 2011, the ODNI accepted responsibility from the Information Security Oversight Office (ISOO) for the maintenance of Standard Form 312: Classified Information Nondisclosure Agreement; Standard Form 713: Consent For Access to Records; and Standard Form 714: Financial Disclosure Report, which are directly related to responsibilities assigned to the Director of National Intelligence (DNI) as Security Executive Agent. Accordingly, ODNI is giving public notice regarding extension of the currently approved information collection, Financial Disclosure Report, Standard Form 714, which candidates for national security clearance must submit as a condition of access to specifically designated classified information along with a favorably adjudicated personnel security background investigation or reinvestigation that results in the granting or updating of a security clearance. ODNI is proposing no changes to the Standard Form 714 and its instructions at this time. The public is invited to comment on the information collection pursuant to the Paperwork Reduction Act of 1995.

DATES: Written comments must be received on or before March 26, 2013 to be assured of consideration.

ADDRESSES: Comments should be sent to: dni-foia@dni.gov.

FOR FURTHER INFORMATION CONTACT: Requests for additional information or copies of the information collection and supporting statement should be directed to Mr. John Hackett, Office of the Chief Information Officer, Information and Data Management Group, Office of the Director of National Intelligence, Washington, DC 20511.

SUPPLEMENTARY INFORMATION: Pursuant to the Paperwork Reduction Act of 1995 (Pub. L. 104-13), ODNI invites the general public and other Federal agencies to comment on Standard Form 714. The comments and suggestions should address one or more of the following points: (a) Whether the proposed information collection reflected in the Standard Form 714 meets the intent of § 1.3 (“Financial Disclosure”) of Executive Order 12968 (“Access to Classified Information”); (b) the accuracy of the estimated burden of the proposed information collection for Standard Form 714; (c) ways to enhance the quality, utility, and clarity of the information to be collected in the Standard Form 714; (d) ways, including the use of information technology, to minimize the burden of the collection of information on all respondents to the Standard Form 714; and (e) whether small businesses are affected by this collection. The comments that are submitted will be summarized and included in the ODNI request for Office of Management and Budget (OMB) approval. All comments will become a matter of public record.

Abstract: The National Security Act of 1947, as amended by the Intelligence Reform and Terrorism Prevention Act of 2004, and Executive Order 13467, “Reforming Processes Related to Suitability for Government Employment, Fitness for Contractor Employees, and Eligibility for Access to Classified National Security Information,” authorizes the DNI as the Security Executive Agent to develop standard forms that promote uniformity and consistency in the implementation of the Government's security clearance program.

The Financial Disclosure Report contains information that is used to assist in making eligibility determinations for access to specifically designated classified information pursuant to Executive Order 12968, “Access to Classified Information.” The data may later be used as part of a review process to evaluate continued eligibility for access to such specifically designated classified information or as evidence in legal proceedings. In addition, law enforcement entities may use this data where pertinent to appropriate investigatory activity.

Respondent burden data follows below:

Title: Financial Disclosure Report.

OMB number: 3440-0001.

Agency form number: Standard Form 714.

Type of review: Regular.

Affected public: Business or other for-profit.

Estimated number of respondents: 86,000.

Estimated time per response: 2 hours.

Frequency of response: Annually.

Estimated total annual burden hours: 172,000 hours.

Dated: January 11, 2013.
Mark W. Ewing,
Chief Management Officer.

[FR Doc. 2013-01544 Filed 1-24-13; 8:45 am]

BILLING CODE P